DEPARTMENT OF THE INTERIOR

Fish and Wildlife Service

[Docket No. FWS-R8-ES-2020-0142; FXES1120800000-201-FF08ENVS00]

Receipt of Incidental Take Permit Application and Draft Low-Effect Habitat Conservation Plan, and Draft NEPA Compliance Documentation, for the Gamebird Substation Expansion in Pahrump, Nye County, Nevada

AGENCY: Fish and Wildlife Service, Interior.

ACTION: Notice of availability of the proposed low-effect habitat conservation plan, and NEPA compliance documentation; request for comment.

SUMMARY: We, the U.S. Fish and Wildlife Service, announce the receipt and availability of an application for an incidental take permit (ITP) under the Endangered Species Act (ESA) and an associated draft low-effect habitat conservation plan (HCP). Additionally, consistent with the requirements of the National Environmental Policy Act (NEPA), we have prepared a draft low-effect screening form and environmental action statement supporting our preliminary determination that the proposed permit action qualifies for a categorical exclusion under NEPA. GridLiance West, LLC has applied for an ITP under the ESA for the Gamebird Substation Expansion in Pahrump, Nye County, Nevada. The ITP would authorize the take of one species incidental to the development and construction of the project. We invite the public and local, State, Tribal, and Federal agencies to comment on the permit application, proposed low-effect HCP, and NEPA categorical exclusion determination documentation. Before issuing the requested ITP, we will take into consideration any information that we receive during the public comment period.

DATES: We must receive your written comments on or before January 19, 2021.

ADDRESSES:

Obtaining Documents: The documents this notice announces, as well as any comments and other materials that we receive, will be available for public inspection online in Docket No. FWS-R8-ES-2020-0142 at http://www.regulations.gov.

Submitting Comments: To send written comments, please use one of the following methods and identify to which document your comments are in reference—the ITP application, draft HCP, or NEPA compliance documentation.

• Internet: Submit comments at http://www.regulations.gov under Docket No. FWS-R8-ES-2020-0142.

• U.S. Mail: Public Comments Processing, Attn: Docket No. FWS-R8-ES-2020-0142; U.S. Fish and Wildlife Service Headquarters, MS: PRB/3W, 5275 Leesburg Pike, Falls Church, VA 22041-3803.

For more information, see Public Comments and Public Availability of Comments under SUPPLEMENTARY INFORMATION.

FOR FURTHER INFORMATION CONTACT: Glen W. Knowles, Field Supervisor, Southern Nevada Fish and Wildlife Office, by phone at 702-515-5244 or via the Federal Relay Service at 800-877-8339.

SUPPLEMENTARY INFORMATION: We, the U.S. Fish and Wildlife Service (Service), announce the receipt and availability of an application submitted by GridLiance West, LLC (applicant), for a 4-year incidental take permit (ITP) under section 10(a)(1)(B) of the Endangered Species Act, as amended (ESA; 16 U.S.C. 1531 et seq.). Application for the permit requires the preparation of an HCP with measures to avoid, minimize, and mitigate the impacts of incidental take of endangered or threatened species to the maximum extent practicable. The applicant prepared the draft Low Effect HCP for the Gamebird Substation Expansion pursuant to section 10(a)(1)(B) of the ESA. FWS consideration of issuing an ITP also requires evaluation of its potential impacts on the natural and human environment in accordance with NEPA. FWS has prepared a low-effect screening form and environmental action statement (categorical exclusion, or catex documentation), pursuant to NEPA (42 U.S.C. 4321 et seq.) and its implementing regulations in the Code of Federal Regulations (CFR) at 40 CFR 1501.4, to preliminarily determine if the proposed HCP qualifies as a low-effect HCP, eligible for a categorical exclusion.

Background

Except for permitted exceptions, section 9 of the ESA (16 U.S.C. 1538 et seq.) prohibits the taking of fish and wildlife species listed as endangered under section 4 of the ESA; by regulation, take of certain species listed as threatened is also prohibited (16 U.S.C. 1533(d); 50 CFR 17.31). Regulations governing the permitted exception for allowable incidental take of endangered and threatened species are at 50 CFR 17.22 and 17.32. For more about the Federal habitat conservation HCP program, go to http://www.fws.gov/endangered/esa-library/pdf/hcp.pdf.

National Environmental Policy Act Compliance

The proposed permit issuance triggers the need for compliance with the NEPA. The draft catex documentation was prepared to determine if issuance of an ITP, based on the draft HCP, would individually or cumulatively have only a minor or negligible effect on the species covered in the HCP, and would therefore qualify as a low-effect HCP eligible for a categorical exclusion from further environmental analysis under NEPA.

Proposed Action

Under the proposed action, the Service would issue an ITP to the applicant for a period of 4 years for certain covered activities (described below) related to the expansion of the existing Gamebird Substation. The applicant has requested an ITP for one covered species, the Mojave desert tortoise (Gopherus agassizii), which was, and remains as listed under the ESA as threatened in April 1990.

Habitat Conservation Plan Area

The geographic scope of the draft habitat conservation plan (HCP) area encompasses 18.2 acres in Nye County, Nevada, where the expansion will occur.

Covered Activities

The proposed section 10(a) ITP would allow incidental take of one covered species from covered activities in the proposed HCP area. The applicant is requesting incidental take authorization for covered activities, including site preparation, geotechnical drilling, associated infrastructure development, expansion of the substation, and the installation of a 230-kilovolt (kV) transmission line to connect the substation to an existing 230-kV transmission line that runs from Pahrump to the Sloan Canyon Switch.

The applicant has proposed to minimize and mitigate for the direct impacts to desert tortoises and its habitat in the HCP area through the following measures:

1. Implementing a worker environmental awareness training program;

2. Setting speed limits to avoid collisions with tortoise;

3. Having an approved biologist ensure implementation of minimization measures, monitor covered activities to avoid collisions, and clear the work site and materials, vehicles, and equipment of tortoises before work activity;

4. Requiring pre-movement vehicle and equipment inspections by workers;

5. Installing temporary tortoise exclusion fencing around substation area;

6. Conducting pre-construction clearance surveys and translocation by an approved biologist;

7. Developing a plan for spill prevention and control, with countermeasures;

8. Implementing proper waste management and disposal actions;

9. Developing a fire management plan; and

10. Implementing certain weed management efforts.

The proposed action will result in the permanent loss of moderate-quality habitat in Nye County, Nevada. In addition to the minimization measures, the applicant will make a one-time contribution of $26,500, payable to the National Fish and Wildlife Foundation (NFWF), to offset the impacts of permanent Mojave desert tortoise habitat loss and habitat modification of about 18.2 acres.

No-Action Alternative

Under the No-Action Alternative, the Service would not issue an ITP to the applicant, and the draft HCP would not be implemented. Under this alternative, the applicant may choose not to construct the facility or would do so in a manner presumed not to result in the take of ESA-listed species.

Public Comments

We request data, comments, new information, or suggestions from the public, other concerned governmental agencies, the scientific community, Tribes, industry, or any other interested party on permit application, draft HCP, and associated documents. If you wish to comment, you may submit comments by any of the methods in ADDRESSES.

Public Availability of Comments

Any comments we receive will become part of the decision record associated with this action. Before including your address, phone number, email address, or other personal identifying information in your comment, you should be aware that your entire comment—including your personal identifying information—might be made publicly available at any time. While you can request in your comment that we withhold your personal identifying information from public review, we cannot guarantee that we will be able to do so. All submissions from organizations or businesses, and from individuals identifying themselves as representatives or officials of organizations or businesses, will be made available for public disclosure in their entirety.

Next Steps

Issuance of an incidental take permit is a Federal proposed action subject to compliance with NEPA and section 7 of the ESA. We will evaluate the application, associated documents, and any public comments we receive during this comment period to determine whether the application meets the requirements of section 10(a) of the ESA. If we determine that those requirements are met, we will conduct an intra-Service consultation under section 7 of the ESA for the Federal action for the potential issuance of an ITP. If the intra-Service consultation confirms that issuance of the ITP will not jeopardize the continued existence of any endangered or threatened species, or destroy or adversely modify critical habitat, we will issue a permit to the applicant for the incidental take of the covered species.

Authority

We provide this notice under section 10(c) of the Endangered Species Act (16 U.S.C. 1539(c) and its implementing regulations (50 CFR 17.32), and NEPA (42 U.S.C. 4321 et seq.) and NEPA implementing regulations (40 CFR 1501.4).

Glen W. Knowles,
Field Supervisor, Southern Nevada Fish and Wildlife Office, U.S. Fish and Wildlife Service, Las Vegas, Nevada.

[FR Doc. 2020-27705 Filed 12-16-20; 8:45 am]

BILLING CODE 4333-15-P